OPIC EXPEDITED SCREENING QUESTIONNAIRE DOWNSTREAM INVESTMENT FORM

AGENCY: Overseas Private Investment Corporation (OPIC).

ACTION: Request for approval from OMB.

SUMMARY: Under the provisions of the Paperwork Reduction Act (44 U.S.C. chapter 35), agencies are required to publish a Notice in the Federal Register notifying the public that the agency has prepared an information collection for OMB review and approval.

DATES: This 30-day notice is to inform the public, that this collection is being submitted to OMB for approval.

ADDRESSES: Copies of the subject form may be obtained from the Agency Submitting Officer.

FOR FURTHER INFORMATION CONTACT: OPIC Agency Submitting Officer: Essie Bryant, Record Manager, Overseas Private Investment Corporation, 1100 New York Avenue, NW., Washington, DC 20527; (202) 336-8563.

SUMMARY FORM UNDER REVIEW:

Type of Request: Extension, without change, of a currently approved collection.

Title: Expedited Screening Questionnaire (ESQ)—Downstream Investments.

Form Number: OPIC 168A & B.

Frequency of Use: OPIC-supported financial intermediaries will complete Form 168A and 168B for each company in which they propose to invest. Form could be used by any given OPIC-supported financial intermediary between 3-4 times per year depending on the number investments the financial intermediary intends to consummate in a given year.

Type of Respondents: Business or other for-profit institutions.

Standard Industrial Classification Codes: All.

Description of Affected Public: U.S. companies or citizens investing overseas.

Standard Industrial Classification Codes: All.

Description of Affected Public: U.S. companies or citizens investing overseas.

Reporting Hours: One hour per project.

Number of Responses: 63 per year.

Federal Cost: $1,280.00 per year.

Authority for Information Collection: Sections 231, 234(a), 239(d), and 240A of the Foreign Assistance Act of 1961, as amended.

Abstract (Needs and Uses): Form 168A and 168B is the principal document used by OPIC to determine OPIC-supported financial intermediaries' compliance with OPIC economic, environmental, labor rights, and human rights policies.

Dated: June 23, 2011.
Nicole Cadiente,
Administrative Counsel, Department of Legal Affairs.

[FR Doc. 2011-16158 Filed 6-28-11; 8:45 am]

BILLING CODE M